DEPARTMENT OF COMMERCE

National Oceanic and Atmospheric Administration

RIN 0648-XT43

Mid-Atlantic Fishery Management Council; Public Meeting

AGENCY: National Marine Fisheries Service (NMFS), National Oceanic and Atmospheric Administration (NOAA), Commerce.

ACTION: Notice of public meeting.

SUMMARY: A joint meeting of the Mid-Atlantic Fishery Management Council's Scientific and Statistical Committee (SSC) and its Black Sea Bass (BSB) Monitoring Committee will be held as a public meeting via Webinar. Immediately following completion of the joint SSC / BSB Monitoring Committee meeting, the SSC will be convened separately to conduct its deliberations independent of the Monitoring Committee.

DATES: The meeting will be held on Friday, January 8, 2010, from 9 a.m. to 5 p.m.

ADDRESSES: The meeting will be held via Webinar. Details about online participation in the Webinar can be obtained by visiting the Council's website (www.mafmc.org). Members of the public may also access the Webinar at the Council office located at Room 2115 of the Frear Federal Building, 300 S. New Street, Dover, DE 19904.

Council address: Mid-Atlantic Fishery Management Council, 300 S. New Street, Room 2115, Dover, DE 19904; telephone: (302) 674-2331.

FOR FURTHER INFORMATION CONTACT: Daniel T. Furlong, Executive Director, Mid-Atlantic Fishery Management Council, 300 S. New Street, Room 2115, Dover, DE 19904; telephone: (302) 674-2331, extension 19.

SUPPLEMENTARY INFORMATION: Topics to be discussed during the meeting include a reconsideration of the SSC's Acceptable Biological Catch (ABC) recommendation for black sea bass for the 2010 fishing year and a framework for ABC control rule specification for inclusion in the Council's Annual Catch Limit / Accountability Measures (ACL/AM) Omnibus Amendment which is currently under development.

Special Accommodations

The listening station at the Council's office is physically accessible to people with disabilities. Requests for sign language interpretation or other auxiliary aids should be directed to M. Jan Bryan at the Mid-Atlantic Council Office, (302) 674-2331 extension 18, at least 5 days prior to the meeting date.

Dated: December 22, 2009.
Tracey L. Thompson,
Acting Director, Office of Sustainable Fisheries, National Marine Fisheries Service.

[FR Doc. E9-30610 Filed 12-24-09; 8:45 am]

BILLING CODE 3510-22-S